DEPARTMENT OF THE INTERIOR

Fish and Wildlife Service

[FWS-R8-ES-2012-N042; FXES11130800000-123-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before April 2, 2012.

ADDRESSES: Written data or comments should be submitted to the U.S. Fish and Wildlife Service, Endangered Species Program Manager, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Permit No. TE-072650-3

Applicant: Jennifer C. Michaud-Laired, Sebastopol, California.

The applicant requests an amendment to a permit to take (survey, capture, handle, and release) the California fresh water shrimp (Syncaris pacifica) in conjunction with surveys and demographic studies in Sonoma, Marin, and Napa Counties, California, for the purpose of enhancing the species' survival.

Permit No. TE-63347A

Applicant: Heidi L. Hogan, Idyllwild, California.

The applicant requests a permit to take (survey by pursuit) the Quino checkerspot butterfly (Euphydryas editha quino) in conjunction with survey activities throughout the range of the species in California for the purpose of enhancing the species' survival.

Permit No. TE-221411

Applicant: Center for Natural Lands Management, Fallbrook, California.

The applicant requests an amendment to a permit to take (survey, capture, handle, and release) the California tiger salamander (Ambystoma californiense) and to remove and reduce to possession from lands under Federal jurisdiction the Ambrosia pumila (San Diego ragweed), in conjunction with survey and population monitoring activities throughout the range of each species in California on lands owned and managed by the Center for Natural Lands Management, for the purpose of enhancing the species' survival.

Permit No. TE-08832A

Applicant: Utah State University, Logan, Utah.

The applicant requests an amendment to a permit to take (survey, capture, handle, mark, release, electrofish, and sacrifice) the Cui-ui (Chasmistes cujus) in conjunction with surveys, population monitoring, and research at Pyramid Lake within the Paiute Tribal Reservation, in Washoe County, Nevada, for the purpose of enhancing the species' survival.

Permit No. TE-64146A

Applicant: Patricia M. Valcarcel, San Rafael, California.

The applicant requests a permit to take (survey, capture, handle, mark, and release) the San Francisco garter snake (Thamnophis sirtalis tetrataenia) in conjunction with survey activities throughout the range of the species in California for the purpose of enhancing the species' survival.

Permit No. TE-64138A

Applicant: Melissa M. Tu, San Diego, California.

The applicant requests an amendment to a permit to take (monitor nests) the least Bell's vireo (Vireo bellii pusillus) in conjunction with surveys and population monitoring activities throughout the range of the species within the jurisdictional boundaries of the Carlsbad Fish and Wildlife Service Office, California, for the purpose of enhancing the species' survival.

Permit No. TE-64124A

Applicant: Sean P. Rowe, Weldon, California.

The applicant requests a permit to take (harass by survey) the southwestern willow flycatcher (Empidonax traillii extimus) in conjunction with surveys throughout the range of the species in California for the purpose of enhancing the species' survival.

Permit No. TE-799569

Applicant: Renee Y. Owens, El Cajon, California.

The applicant requests an amendment to a permit to take (survey by pursuit) the Quino checkerspot butterfly (Euphydryas editha quino) in conjunction with survey activities throughout the range of the species in California and to take (monitor nests) the least Bell's vireo (Vireo bellii pusillus) in conjunction with surveys and population monitoring activities in Los Angeles County, California, for the purpose of enhancing the species' survival.

Permit No. TE-006328

Applicant: Brian M. Drake, Nuevo, California.

The applicant requests an amendment to a permit to take (harass by survey) the Casey's June beetle (Dinacoma caseyi) in conjunction with survey activities throughout the range of the species in California for the purpose of enhancing the species' survival.

Permit No. TE-029414

Applicant: Nathan T. Moorhatch, Placentia, California.

The applicant requests an amendment to a permit to take (harass by survey) the Casey's June beetle (Dinacoma caseyi) in conjunction with survey activities throughout the range of the species in California for the purpose of enhancing the species' survival.

Permit No. TE-836491

Applicant: Michael D. Wilcox, Riverside, California.

The applicant requests an amendment to a permit to take (harass by survey) the Casey's June beetle (Dinacoma caseyi) in conjunction with survey activities throughout the range of the species in California for the purpose of enhancing the species' survival.

Permit No. TE-837760

Applicant: Kendall H. Osborne, Riverside, California.

The applicant requests an amendment to a permit to take (harass by survey) the Casey's June beetle (Dinacoma caseyi) in conjunction with survey activities throughout the range of the species in California for the purpose of enhancing the species' survival.

Permit No. TE-64509A

Applicant: James W. Cornett, Palm Springs, California.

The applicant requests a permit to take (harass by survey) the Casey's June beetle (Dinacoma caseyi) in conjunction with survey activities throughout the range of the species in California for the purpose of enhancing the species' survival.

Permit No. TE-084254

Applicant: Ellen K. Schafhauser, Weldon, California.

The applicant requests an amendment to a permit to take (harass by survey) the Casey's June beetle (Dinacoma caseyi) in conjunction with survey activities throughout the range of the species in California for the purpose of enhancing the species' survival.

Permit No. TE-09385A

Applicant: Susan E. Williams, Ridgecrest, California.

The applicant requests an amendment to a permit to take (survey, capture, handle, mark, and release) the Mohave tui chub (Gila bicolor mohavensis) in conjunction with surveys, population monitoring, and restoration activities throughout the range of the species in San Bernardino County, California, for the purpose of enhancing the species' survival.

Permit No. TE-64124A

Applicant: Nicholas A. Rice, Las Vegas, Nevada.

The applicant requests a permit to take (harass by survey) the southwestern willow flycatcher (Empidonax traillii extimus) and Yuma clapper rail (Rallus longirostris yumanensis) in conjunction with surveys in Clark County, Nevada, for the purpose of enhancing the species' survival.

Permit No. TE-64547A

Applicant: United States Geological Survey, Bishop Field Station, Bishop, California.

The applicant requests a permit to remove and reduce to possession from lands under Federal jurisdiction the Oenothera californica subsp. eurekensis (Eureka Valley evening primrose) in conjunction with floristic surveys and research activities throughout the range of the species in California for the purpose of enhancing the species' survival.

Permit No. TE-64546A

Applicant: Power Engineers Incorporated, Meridian, Idaho.

The applicant requests a permit to take (harass by survey and monitor nests) the southwestern willow flycatcher (Empidonax traillii extimus) and the least Bell's vireo (Vireo bellii pusillus) in conjunction with surveys and population monitoring activities throughout the range of each species for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Michael Long,
Acting Regional Director, Region 8, Sacramento, California.

[FR Doc. 2012-4949 Filed 2-29-12; 8:45 am]

BILLING CODE 4310-55-P